DEPARTMENT OF DEFENSE

Department of the Army; Corps of Engineers

Intent To Prepare Supplement 1 to the Dallas Floodway Extension Environmental Impact Statement To Address Cumulative Impacts of Reasonably Foreseeable Similar Projects in the Geographic Area of the Authorized Dallas Floodway Extension, Trinity River, City of Dallas, Dallas County, TX

AGENCY: Department of the Army, United States Army Corps of Engineers, DoD.

ACTION: Notice of intent.

SUMMARY: The Dallas Floodway Extension was authorized for construction as one of five local flood protection projects by section 301 of the Rivers and Harbors Act (Pub. L. ­89-298), approved on October 12, 1965. Ecosystem restoration was authorized for this project by Water Resources Development Act 1999. A General Reevaluation Report and Integrated Environmental Impact Statement was circulated for review in 1998 and 1999 and a Record of Decision was signed on December 1, 1999. Subsequent to that action, a coalition of eleven local groups challenged the legal sufficiency of the document to meet requirements of the National Environmental Policy Act, and the Administrative Procedures Act. Several specific allegations by the plaintiffs were made including that the document failed to fully disclose, discuss and consider the cumulative impacts of the various components of the Trinity River Corridor Project in the Dallas area including: The Trinity Parkway, the Woodall Rogers Bridge, the Elm Fork Levee and the Chain of Lakes. A summary decision was issued on April 10, 2002 that agreed with the plaintiffs' allegation that the document failed to adequately address cumulative impacts of other similar, reasonably foreseeable projects within the geographic area of the Dallas Floodway Extension Project. No further construction of the Dallas Floodway Extension Project may be pursued until the Corps of Engineers has completed further consideration of the cumulative impacts.

The Supplement to the Environmental Impact Statement (SEIS) will focus on the determination of similar projects in or affecting the geographic area and assessing cumulative impacts of those projects in relationship to the approved Dallas Floodway Extension project. The study area will include portions of the West Fork, Elm Fork and main stem Trinity Rivers and their floodplains within Dallas County.

FOR FURTHER INFORMATION CONTACT: Questions pertaining to the proposed action and SEIS can be answered by: Mr. Gene T. Rice, Jr., CESWF-PM-C, U.S. Army Corps of Engineers, Fort Worth District, PO Box 17300, Fort Worth, TX 76102-0300, (817) 886-1374.

SUPPLEMENTARY INFORMATION: The approved plan for the Dallas Floodway Extension includes construction of earthen fill levees on each side of the Trinity River downstream of the existing Dallas Floodway, construction of a chain of wetlands on the flood plain and realignment of a portion of the Trinity River underneath Interstate Highway 45. The plan would provide Standard Flood Protection for the area adjacent to the levees, and improve flood damage reduction benefits of the existing Dallas Floodway Project. In addition, the Chain of wetlands provides ecosystem restoration benefits to the study area. Recreational features in the approved project include trails and access points.

The public will be invited to participate in the scoping process, invited to attend public meetings, and given the opportunity to review the draft SEIS. A public meeting will be on Tuesday, July 16, 2002 at the Ramada Plaza Hotel, Magnolia Ballroom, 1011 South Akard Street, Dallas, Texas from 6 p.m. to 9 p.m. Subsequent public meetings, if deemed necessary, will be announced in the local news media. Release of the Draft SEIS for public comment is scheduled for late Summer 2002. The exact release date, once established, will be announced in the local news media.

Coordinated with other agencies in addition to the announced public scoping will be conducted to ensure full and open participation and aid in the development of the SEIS. All affected Federal, state, and local agencies, municipalities, affected Indian tribes, and other interested private organizations and parties are hereby invited to participate.

Dated: June 21, 2002.
Gordon M. Wells,
Colonel, Corps of Engineers, Commanding.

[FR Doc. 02-16381 Filed 6-27-02; 8:45 am]

BILLING CODE 3710-20-M